POSTAL REGULATORY COMMISSION

[Docket No. PI2010-3; Order No. 456]

Postal Rate Case Management

AGENCY: Postal Regulatory Commission.

ACTION: Notice.

SUMMARY: The Commission is seeking comments relevant to management of an anticipated exigent postal rate case. It has scheduled a technical conference for a public discussion based on the submissions.

DATES: Comments are due: June 9, 2010; technical conference will be held: June 16, 2010.

ADDRESSES: Submit comments electronically via the Commission's Filing Online system at http://www.prc.gov. Commenters who cannot submit their views electronically should contact the person identified in the FOR FURTHER INFORMATION CONTACT section by telephone for advice on alternatives to electronic filing.

FOR FURTHER INFORMATION CONTACT: Stephen L. Sharfman, General Counsel, 202-789-6820 or stephen.sharfman@prc.gov.

SUPPLEMENTARY INFORMATION:

Table of Contents

I. Introduction

II. Public Representative

III. Ordering Paragraphs

I. Introduction

On March 2, 2010, Postmaster General John E. Potter outlined elements of a business plan designed to close a projected gap between Postal Service revenues and costs.¹ Included in the plan was a reference to a possible “modest exigent rate increase” to be effective in 2011. Id. The term “exigent rate increase” is commonly used to refer to rate adjustments that are due to extraordinary or exceptional circumstances. Such rate adjustments are expressly authorized by 39 U.S.C. 3622(d)(1)(E).

¹ Press Release No. 10-018, United States Postal Service, Postal Service Outlines 10-Year Plan to Address Declining Revenues, Volumes (March 2, 2010).

Following the issuance of the Postal Accountability and Enhancement Act (PAEA), Pub. L. 109-435, 120 Stat. 3218 (2006), the Commission adopted new rules that establish procedures for handling exigent rate cases. Docket No. RM2007-1, October 29, 2007 (Order No. 43). Those new rules (Exigent Rate Case Rules) are contained in subpart E of part 3010 of the Commission's regulations. 39 CFR part 3010, subpart E.

If filed, the potential exigent rate case referred to by the Postmaster General would be the first exigent rate case received by the Commission since passage of the PAEA. While the Commission is confident that its Exigent Rate Case Rules will provide an effective procedural framework for consideration of the currently anticipated case, the Commission believes that it would be prudent to give all interested parties an opportunity to explore and discuss procedural considerations unique to exigent rate cases before the Postal Service files such a case. This belief is grounded in part on the fact that section 3622(d)(1)(E) requires the Commission to issue a decision within 90 days after the Postal Service's filing. Advance consideration of the unique procedural aspects of the proposed exigent rate case may permit early identification of solutions to any potential issues that might otherwise complicate fair and meaningful participation by interested persons.

In light of the foregoing considerations, a technical conference is scheduled for June 16, 2010, beginning at 10:00 a.m. in the Commission's hearing room. The purpose of the conference is to give interested persons the opportunity to discuss procedures for managing the Postal Service's currently anticipated exigent rate case. The proceedings will be transcribed, and a copy of the transcript will be posted on the Commission's website. Further procedures are under consideration and may be announced by further public notice. Finally, the Commission invites interested persons to file proposed topics for discussion at the conference not later than June 9, 2010.

II. Public Representative

Section 505 of title 39 requires the designation of an officer of the Commission in all public proceedings to represent the interests of the general public. The Commission hereby designates James Waclawski as Public Representative in this proceeding.

III. Ordering Paragraphs

It is ordered:

1. Docket No. PI2010-3 is established for the purpose of facilitating discussion of and obtaining views on, procedural matters pertaining to rate adjustments proposed to meet exigent circumstances under part 3010, subpart E of the commission's rules of practice.

2. A technical conference will be held June 16, 2010, beginning at 10:00 a.m. in the Commission's hearing room to discuss issues related to the matters that are the subject of this proceeding.

3. Interested persons may sunbmit proposed topics for discussion on or before June 9, 2010.

4. James Waclawski is designated as the Public Representative to represent the interests of the general public in this docket.

5. The Secretary shall arrange for publication of this order in the Federal Register.

By the Commission.
Shoshana M. Grove,
Secretary.

[FR Doc. 2010-11467 Filed 5-13-10; 8:45 am]

BILLING CODE 7710-FW-S